NATIONAL AERONAUTICS AND SPACE ADMINISTRATION

[Notice (05-167)]

Government-Owned Inventions, Available for Licensing

AGENCY: National Aeronautics and Space Administration.

ACTION: Notice of availability of inventions for licensing.

SUMMARY: The invention listed below assigned to the National Aeronautics and Space Administration, has been filed in the United States Patent and Trademark office, and is available for licensing.

DATES: December 9, 2005.

FOR FURTHER INFORMATION CONTACT: Randy Heald, Patent Counsel, Kennedy Space Center, Mail Code CC-A, Kennedy Space Center, FL 32899; telephone (321) 867-7214; fax (321) 867-1817.

NASA Case No. KSC-12631: Composite Powder Particles;

NASA Case No. KSC-12191-2: Corrosion Prevention Of Cold Rolled Steel Using Water Dispersible Lignosulfonic Acid Doped Polyaniline (Related to KSC-12190 And KSC-11940);

NASA Case No. KSC-12723: Coating For Corrosion Detection And Prevention.

Dated: December 5, 2005.
Keith T. Sefton,
Deputy General Counsel, Administration and Management.

[FR Doc. E5-7169 Filed 12-8-05; 8:45 am]

BILLING CODE 7510-13-P